DEPARTMENT OF THE INTERIOR

Bureau of Land Management

[UT 040-1150-CB, 1430-ES, 1220-BA]

AGENCY: Bureau of Land Management, Interior.

ACTION: Notice of intent and notice of realty action.

SUMMARY: This notice is to advise the public that the Bureau of Land Management (BLM) is proposing to amend the Cedar/Beaver/Garfield/Antimony (CBGA) Resource Management Plan (RMP) affecting public lands located in the Three Peaks Area of Iron County, Utah, to create a Special Recreation Management Area (SRMA) comprising 4,966 acres. The BLM also proposes to lease or convey under the provisions of the Recreation & Public Purposes (R&PP) Act forty-five (45) acres of public land described herein to Iron County, Utah, for recreational use purposes.

DATES: The comment period for the proposed plan amendment and R&PP classification/application will commence with publication of this notice. Comments must be submitted on or before July 9, 2004.

ADDRESSES: All comments addressing the actions proposed in this notice should be sent to Todd S. Christensen, Field Office Manager, Cedar City Field Office, 176 East DL Sargent Drive, Cedar City, Utah, 84720.

FOR FURTHER INFORMATION CONTACT: Todd S. Christensen, Field Office Manager, Cedar City Field Office, 176 East DL Sargent Drive, Cedar City, Utah, 84720. Existing planning documents and information are available at the above address or telephone (435) 586-2401.

SUPPLEMENTARY INFORMATION: Interested parties may submit comments concerning the following actions: proposed plan amendment to the Cedar/Beaver/Garfield/Antimony RMP; specific proposed use in the R&PP application and plans of development and management, anticipated impacts of the proposal, and the BLM's administrative procedure used in reaching a decision on the lease or conveyance of the public lands; and suitability of the lands identified for R&PP lease or conveyance for the stated recreational purposes. Comments on the classification of lands are restricted to whether the lands are physically suited for the use, whether the use will maximize the use or future uses, whether the use is consistent with local planning and zoning, or whether the use is consistent with State or Federal programs. All comments submitted from organizations or businesses will be made available for public inspection in their entirety. Individuals may request confidentiality with respect to their name, address, and phone number. If you wish to have your name or street address withheld from public review, or from disclosure under the Freedom of Information Act, the first line of the comment should start with the words “CONFIDENTIALITY REQUESTED” in uppercase letters in order for BLM to comply with your request. Such requests will be honored to the extent allowed by law. Comment contents will not be kept confidential. BLM will not consider anonymous comments.

The proposed amendment to the CBGA RMP would designate land about nine miles northwest of Cedar City, Utah as the Greater Three Peaks Special Recreation Management Area (GTPSRMA). The current land use plan designates these lands for unstructured recreation, but increased use of the area has resulted in user conflicts and public safety concerns. The proposed recreation area would be designated and an associated recreation management plan implemented to mitigate these concerns and increase user satisfaction in the area. Actions being proposed which are not in conformance with the CBGA RMP are: designating the GTPSRMA, delineating certain trails in the GTPSRMA for non-motorized use only, limiting mechanized and equestrian use to designated roads and trails, and prohibiting of the use of firearms within the GTPSRMA, except in a designated shooting range. The CBGA RMP would be amended to allow for these changes.

The land being considered for inclusion in the GTPSRMA includes public, state, county and any acquired private land within the established boundaries of the GTPSRMA. The public land being considered comprises 4,966 acres described as follows: Salt Lake Meridian, Utah, Township 35 South, Range 12 West, Section 1, All except the SE¼NE¼; Section 2, Lot 3, N½; Sections 3 and 10, All except patented mining claims; Sections 4 and 9, All except the Iron County Shooting Range; Sections 11 and 12, All; Section 14, NW¼, N½SW¼, N½S½SW¼; Section 15, All except the S½S½SE¼ and patented mining claims; and Section 16, Lots 2, 3, and 8 except for patented mining claims.

State and private lands located in the sections mentioned above would be incorporated into the recreation area should they be acquired in the future by the BLM or Iron County, in accordance with the SRMA objectives. All existing federal land and any land acquired by the federal government within the GTPSRMA would be retained in federal ownership, except for the R&PP lease noted above and described below. These lands would be managed in accordance with the SRMA goals and objectives and the proposed management plan for the area.

This action also constitutes a Notice of Realty Action for the Classification and Lease or Conveyance (Patent) of Public Lands for Recreation Purposes (EA# UT-040-04-24). BLM proposes to lease or convey the following public lands in Iron County under the provision of the R&PP Act, as amended, (43 U.S.C. 869 et. seq.) to Iron County for public recreational purposes (UTU-54574). The R&PP area would be used for a motocross track and supporting amenities and would support the recreation objectives of the area. The land to be leased and or conveyed is described as follows:

Salt Lake Meridian, Utah, Township 35 South, Range 12 West, Section 11, S½ SE¼ SW¼ SW¼; and Section 14, NE¼ NW¼ NW¼, S½ NW¼ NW¼, N½ N½ SW¼ NW¼, containing 45 acres. Following completion of an environmental assessment and upon signature of a decision record, the classification of the public lands, if found suitable for lease or conveyance, will be effective, and the process to lease or convey the public lands may be completed. Iron County proposes to use the land for the development of a motocross track, an ATV trail head, parking lots, and camping and picnicking facilities. The patent, when issued, would be subject to the following terms, conditions, and reservations: (1) Provisions of the R&PP Act and applicable regulations of the Secretary of the Interior. (2) A right-of-way for ditches and canals constructed by the authority of the United States. (3) All valid existing rights documented on the official public land records at the time of patent issuance. (4) All minerals shall be reserved to the United States, together with the right to prospect for, mine, and remove the minerals. Upon publication of this Notice in the Federal Register, the public lands described above are segregated from all forms of appropriation under the public land laws, including the mining laws, except for conveyance under the R&PP Act and leasing under the Mineral Leasing Act.

Gene R. Terland,
Associate State Director.

[FR Doc. 04-11719 Filed 5-24-04; 8:45 am]

BILLING CODE 4310-DQ-P